DEPARTMENT OF HOMELAND SECURITY

[Docket No. CISA-2024-0018]

Agency Information Collection Activities: Title of Collection: CISA Industry Engagement Registration & Account in ServiceNow; Collection Instrument: CISA Industry Engagement Registration & Account Form

AGENCY: Cybersecurity and Infrastructure Security Agency (CISA), Department of Homeland Security (DHS).

ACTION: 60-Day notice of information collection; request for comments; new information collection (request for a new OMB Control Number 1670-NEW).

SUMMARY: The Office of the Chief Acquisition Executive (OCAE) within Cybersecurity and Infrastructure Security Agency (CISA) submits the following information for a new Information Collection Request (ICR) to the Office of Management and Budget (OMB) for review and clearance.

DATES: Comments are encouraged and will be accepted until August 23, 2024.

Submissions received after the deadline for receiving comments may not be considered.

ADDRESSES: You may submit comments, identified by docket number Docket # CISA-2024-0018, by following the instructions below for submitting comment via the Federal eRulemaking Portal at http://www.regulations.gov.

Instructions: All comments received must include the agency name and docket number Docket # CISA-2024-0018. All comments received will be posted without change to http://www.regulations.gov, including any personal information provided.

Docket: For access to the docket to read background documents or comments received, go to http://www.regulations.gov.

FOR FURTHER INFORMATION CONTACT: Anne Schons, 202-531-1882, anne.schons@cisa.dhs.gov.

SUPPLEMENTARY INFORMATION: CISA's Office of the Chief Acquisition Executive (OCAE) seeks to automate the collection of information of vendors wishing to engage with CISA through a new industry engagement registration and account creation process in ServiceNow.

CISA's authority for the collection of this information exists in Federal Acquisition Regulation (FAR) part 15.201 (48 CFR 15.201), Exchanges with industry before receipt of proposals.

By vendors registering in the system and creating an account, the CISA Industry Engagement Program will then facilitate equitable, efficient, and effective interactions between those vendors possessing innovative capabilities to advance CISA's mission and internal CISA stakeholders. Additionally, the information collected allows the CISA Industry Engagement team to maintain an internal database of vendor capabilities, serving as a vital reference for CISA to identify potential partners and solutions that align with its operational needs and objectives.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Cybersecurity and Infrastructure Security Agency (CISA), Department of Homeland Security (DHS).

Title: CISA Industry Capability Questionnaire.

OMB Number: 1670-NEW.

Frequency: Annually.

Affected Public: Private sector businesses.

Number of Respondents: Estimated 420 responses per year.

Estimated Time per Respondent: 30 minutes.

Total Burden Hours: 210 hours.

Annualized Cost: $8,883.

Annualized Cost to Government: $10,040.

Robert J. Costello,
Chief Information Officer, Department of Homeland Security, Cybersecurity and Infrastructure Security Agency.

[FR Doc. 2024-13772 Filed 6-21-24; 8:45 am]

BILLING CODE 9111-LF-P